DEPARTMENT OF HOMELAND SECURITY

Coast Guard

33 CFR Part 117

[Docket No. USCG-2023-0601]

RIN 1625-AA09

Drawbridge Operation Regulation; Atlantic Intracoastal Waterway; West Palm Beach, FL

AGENCY: Coast Guard, DHS.

ACTION: Final rule.

SUMMARY: The Coast Guard is modifying the operating schedule that governs the Flagler Memorial (SR A1A) Bridge, mile 1021.8, the Royal Park (SR 704) Bridge, mile 1022.6, and the Southern Boulevard (SR 700/80) Bridge, mile 1024.7, across Atlantic Intracoastal Waterway (AICW), at West Palm Beach, FL. This modification will allow the drawbridges to operate in concert while assisting local communities with vehicle congestion during peak weekday traffic hours.

DATES: This rule is effective March 31, 2025.

ADDRESSES: To view documents mentioned in this preamble as being available in the docket, go to https://www.regulations.gov. Type the docket number (USCG-2023-0601) in the “SEARCH” box and click “SEARCH”. In the Document Type column, select “Supporting & Related Material.”

FOR FURTHER INFORMATION CONTACT: If you have questions on this rule, call or email Ms. Jennifer Zercher, Bridge Management Specialist, Seventh Coast Guard District; telephone (571) 607-5951, email Jennifer.N.Zercher@uscg.mil.

SUPPLEMENTARY INFORMATION:

I. Table of Abbreviations

CFR Code of Federal Regulations

DHS Department of Homeland Security

FR Federal Register

OMB Office of Management and Budget

NPRM Notice of Proposed Rulemaking

SNPRM Supplemental Notice of Proposed Rulemaking

§ Section

U.S.C. United States Code

SR State Route

TD Temporary Deviation

AICW Atlantic Intracoastal Waterway

FDOT Florida Department of Transportation

II. Background Information and Regulatory History

On July 31, 2023, the Coast Guard published a notice of temporary deviation entitled “Drawbridge Operation Regulation; Atlantic Intracoastal Waterway, West Palm Beach, FL” in the Federal Register (88 FR 49287). The comment period ended September 29, 2023, with 529 comments received. Those comments were address in the notice of proposed rulemaking (NPRM) discussed next.

On May 20, 2024, we published a NPRM entitled “Drawbridge Operation Regulation; Atlantic Intracoastal Waterway, West Palm Beach, FL” in the Federal Register (89 FR 43797). The comment period ended June 20, 2024, with 1,153 comments received. Those comments were addressed in the Supplemental Notice of Proposed Rulemaking (SNPRM) discussed next.

On November 6, 2024, we published a SNPRM entitled “Drawbridge Operation Regulation; Atlantic Intracoastal Waterway, West Palm Beach, FL” in the Federal Register (89 FR 87990). During the comment period that ended December 6, 2024, we received five comments, and those comments are addressed in Section IV of this Final Rule.

Under 5 U.S.C. 553(d)(3), the Coast Guard finds that good cause exists for making this rule effective less than 30 days after publication in the Federal Register. The drawbridges have been operating under a temporary deviation that is set to expire March 31, 2025. Delaying the effective date of the rule would be impracticable and contrary to the public interest as the drawbridges would be required to revert to operating schedules that do not meet the reasonable needs of all modes of transportation and would have a negative impact on roadway traffic.

III. Legal Authority and Need for Rule

The Coast Guard is issuing this rule under authority 33 U.S.C. 499.

The Flagler Memorial (State Route (SR) A1A) Bridge, across the AICW, mile 1021.8, at West Palm Beach, FL is a double-leaf bascule bridge with a 24-foot vertical clearance at mean high water in the closed position. The normal operating schedule is set forth in 33 CFR 117.261(u). The Royal Park (SR 704) Bridge, across the AICW, mile 1022.6, at West Palm Beach, FL is a double-leaf bascule bridge with a 21-foot vertical clearance at mean high water in the closed position. The normal operating schedule is set forth in 33 CFR 117.261(v). The Southern Boulevard (SR 700/80) Bridge, across the AICW, mile 1024.7, at West Palm Beach, FL is a double-leaf bascule bridge with a 25-foot vertical clearance at mean high water in the closed position. The normal operating schedule is set forth in 33 CFR 117.261(w).

Palm Beach County and the communities surrounding the bridges requested the Coast Guard consider placing additional weekday restrictions during peak traffic hours to assist with alleviating vehicle congestion. Vehicle traffic across these bridges is exceeding the roadway capacity during certain times of the day. The Coast Guard has modified the drawbridge schedules to allow openings once an hour during designated times on weekdays. The drawbridges will open twice an hour at all other times or as outlined in each drawbridge operating regulation.

IV. Discussion of Comments, Changes and the Final Rule

The Coast Guard provided a comment period of 30 days, and five comments were received. The first comment asked if there would be a change in vessel traffic and if so, would the vessels need to “park”. Also, would this cause additional environmental impacts. The Coast Guard feels the regulation change will not require vessels to “park” or moor or anchor in nautical terms. Vessels may have to adjust speed through the water to meet the new opening times or they may choose to temporarily anchor or moor at a facility. The Coast Guard states this drawbridge operation regulation action is one of a category of actions that do not individually or cumulatively have a significant effect on the human environment.

The Marine Industries Association of Palm Beach County, Inc. expressed concern with reduced drawbridge openings during the Palm Beach International Boat Show. They have requested to be notified as soon as possible to any changes to drawbridge operations and consider input from marine interest on how changes may affect the flow of vessel traffic during the boat show. The Coast Guard will notify and work with marine interests during the boat show and any event that may increase vessel traffic and may require special consideration to waterway traffic to ensure the safety of navigation.

The third commentor suggested an alternate opening schedule for what they considered the main bridge, the Royal Park Bridge. They stated that having it open on the three-quarter hour will continue his delay into work and suggested the Royal Park Bridge open on the half-hour, quarter hour, or not open from 7:30 a.m. to 9:30 a.m. The other two bridges, Flagler Memorial and Southern Blvd. Bridges can open one half-hour opposite the Royal Park Bridge. The SNPRM did propose to change the opening time for the Royal Park Bridge from the three-quarter hour to the half-hour and the other two bridges open on the quarter hour given their distance to the Royal Park Bridge.

The fourth commentor suggested the three bridges should not open more than once an hour at all times unless instructed by the Coast Guard for official business. The AICW is a Federal Project Waterway extending over 1,500 miles from Boston to Florida Bay. It is the main waterway artery for all recreational and commercial traffic that are unable to safely transit offshore. The Coast Guard has the responsibility to ensure reasonable access to this waterway is maintained. Allowing only hourly openings at all times would not meet the reasonable needs of navigation and is contrary to our responsibility.

The last comment received wanted more information on how the proposal would affect vessels during the proposed time changes. The commentor stated that some members of the community have stated that vessels should have more access to the waterway not the proposed less. They feel the changes that might need to be made should come from multiple forms so that no one group is overly affected by the impact of the new rule. The Coast Guard has published a temporary test deviation, NPRM, and SNPRM all with a request for comments from the public. In total we received 1,687 comments on the proposed rule from multiple sources. The Coast Guard feels ample opportunity was provided during the comment periods for different entities to provide input on the proposed rule.

This rule modifies the operating schedule of the Flagler Memorial, Royal Park, and Southern Blvd. Bridges by allowing the bridges to open once an hour verses twice an hour during designated peak traffic times. The bridges will continue to open twice an hour outside of those designated peak traffic times as outlined in their respective operating regulation.

V. Regulatory Analyses

We developed this rule after considering numerous statutes and Executive Orders related to rulemaking. Below we summarize our analyses based on a number of these statutes and Executive Orders

A. Regulatory Planning and Review

Executive Orders 12866 and 13563 direct agencies to assess the costs and benefits of available regulatory alternatives and, if regulation is necessary, to select regulatory approaches that maximize net benefits. This rule has not been designated a “significant regulatory action,” under section 3(f) of Executive Order 12866. Accordingly, it has not been reviewed by the Office of Management and Budget (OMB).

This regulatory action determination is based on is based on the ability that vessels can still transit the bridge during the designated times and vessels able to pass without an opening may do so at any time.

B. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received zero comments from the Small Business Administration on this rule. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA)(42 U.S.C. 4321-4370f). The Coast Guard has determined that this action is one of a category of actions that do not individually or cumulatively have a significant effect on the human environment. This rule promulgates the operating regulations or procedures for drawbridges and is categorically excluded from further review, under paragraph L49, of Appendix A, Table 1 of DHS Instruction Manual 023-01-001-01, Rev. 1.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Amend § 117.261 by revising paragraphs (u), (v), and (w) to read as follows:

§ 117.261 Atlantic Intracoastal Waterway from St. Marys River to Key Largo.

* * * * *

(u) Flagler Memorial (SR A1A) Bridge, mile 1021.8, at West Palm Beach.

(1) The draw will open on the quarter and three-quarter hour, except Monday through Friday (except Federal holidays) from 7:30 a.m. to 9 a.m. and from 4 p.m. to 6 p.m., the draw need only open on the quarter hour.

(2) When the Presidential Security Zone is enforced, the draw will open on the quarter and three-quarter hour, except Monday through Friday (except Federal holidays) from 7:30 a.m. to 9 a.m. and from 2:15 p.m. to 6 p.m., the draw need only open on the quarter hour.

(v) Royal Park (SR 704) Bridge, mile 1022.6, at West Palm Beach.

(1) The draw will open on the hour and half hour, except Monday through Friday (except Federal holidays) from 7:30 a.m. to 9 a.m. and from 4 p.m. to 6 p.m., the draw need only open on the half hour.

(2) When the Presidential Security Zone is enforced, the draw will open on the hour and half hour, except Monday through Friday (except Federal holidays) from 7:30 a.m. to 9 a.m. and from 2:15 p.m. to 6 p.m., the draw need only open on the half hour.

(w) Southern Boulevard (SR 80) Bridge, mile 1024.7, at West Palm Beach.

(1) The draw will open on the quarter and three-quarter hour, except Monday through Friday (except Federal holidays) from 7:30 a.m. to 9 a.m. and from 4 p.m. to 6 p.m., the draw need only open on the quarter hour.

(2) When the Presidential Security Zone is enforced, the draw may be closed without advance notice to permit uninterrupted transit of dignitaries across the bridge. At all other times the bridge shall open on the quarter and three-quarter hour, or as directed by the on-scene designated representative.

* * * * *

Dated: March 24, 2025.
Douglas M. Schofield,
Rear Admiral, U.S. Coast Guard Commander, Coast Guard Seventh District.

[FR Doc. 2025-07058 Filed 4-23-25; 8:45 am]

BILLING CODE 9110-04-P